DEPARTMENT OF THE INTERIOR

Bureau of Land Management

[WY-090-03-1610-DO]

Notice of Intent To Revise the Kemmerer Resource Management Plan and Prepare an Associated Environmental Impact Statement

AGENCY: Bureau of Land Management, Interior.

ACTION: Notice of Intent to revise the Kemmerer Resource Management Plan (RMP) and prepare an associated Environmental Impact Statement (EIS); solicitation of public comments on resource issues and preliminary planning criteria; and call for coal resource information and other resource information for the Kemmerer planning area, Wyoming.

SUMMARY: This document (1) provides notice that the Bureau of Land Management (BLM) intends to prepare a revised RMP with an associated EIS; (2) solicits public comments regarding resource issues and preliminary planning criteria; and, (3) solicits resource information for coal and other resources for the Kemmerer planning area. The planning area encompasses approximately 1,422,000 acres of public land and is located in Lincoln, Sweetwater, and Uinta Counties, Wyoming.

DATES: This notice initiates the public scoping process. The BLM can best utilize public comments and resource information submissions submitted within 60 days of publication of this notice in the Federal Register.

ADDRESSES: Please send written comments and resource information submissions via mail to the BLM, Kemmerer Field Office, 312 Highway 189 North, Kemmerer, Wyoming 83101; or electronically to krmp_wymail@blm.gov. Members of the public may examine documents pertinent to this proposal in the Kemmerer Field Office. Comments, including names and street addresses of respondents, will be available for public review at the Kemmerer Field Office during regular business hours (7:45 a.m. to 4:30 p.m.), Monday through Friday, except holidays, and may be published as part of the EIS process. Individual respondents may request confidentiality. If you wish to withhold your name or street address from public review or from disclosure under the Freedom of Information Act, please state this prominently at the beginning of your written comment. The BLM will honor such requests to the extent allowed by law. All submissions from organizations and businesses, and from individuals identifying themselves as representatives or officials of organizations or businesses, will be available for public inspection in their entirety.

FOR FURTHER INFORMATION CONTACT: For further information or to have your name added to the RMP mailing list, contact Tom Davis at the above mentioned address or by telephone at (307) 828-4500, or electronically to krmp_wymail@blm.gov.

SUPPLEMENTARY INFORMATION: The BLM will work collaboratively with interested parties to identify the management decisions that are best suited to local, regional, and national interests. The public scoping process will help identify planning issues and planning criteria, including an evaluation of the existing RMP in the context of the needs and interests of the public and provide opportunities for commenting on documents published throughout the RMP revision process.

1. Preliminary Issues

Preliminary issues and management concerns have been identified by BLM personnel, other agencies, and in meetings with individuals and user groups. These issues represent the BLM's knowledge to date on the existing issues and concerns with the current RMP. The major issue themes that may be addressed in the planning effort include:

A. Energy and mineral resource exploration and development;

B. Access to and transportation on BLM lands;

C. Recreation and Off-Highway Vehicle (OHV) management;

D. Wildlife habitat and management of crucial habitat and migration corridors;

E. Management and cumulative effect of land uses and human activities on Threatened, Endangered, Candidate, and Sensitive species and their habitats;

F. Vegetation, including impacts of invasive species;

G. Management of cultural and paleontological resources, including National Historic Trails;

H. Land ownership adjustments;

I. Fire management;

J. Livestock grazing;

K. Visual Resource Management;

L. Potential establishment of special management areas; and,

M. Air and water quality.

2. Categorization of Issues

After gathering public comments on what issues the RMP should address, the BLM will place suggested issues in one of three categories: issues to be resolved in the RMP revision, issues resolved through policy or administrative action, and issues beyond the scope of the RMP revision. Rationale will be provided in the RMP for issues to be resolved through policy or administrative action and issues beyond the scope of the RMP.

3. Preliminary Planning Criteria

The BLM identified the following preliminary planning criteria to guide resolution of the issues considered in the planning effort (the BLM may revise these criteria during the planning process or in response to public comment):

A. The revised RMP will recognize the existence of valid existing rights.

B. The decisions in the revised RMP will cover BLM-administered public lands, including split-estate lands where the subsurface minerals are severed from the surface right, and the BLM has legal jurisdiction over one or the other.

C. The BLM will use a collaborative and multi-jurisdictional approach to determine the desired future condition of public lands.

D. The BLM will strive to ensure that its management decisions are complimentary to other planning jurisdictions and adjoining properties, within the boundaries described by law and regulation.

E. The environmental analysis will consider a reasonable range of alternatives that focus on the relative values of resources and respond to the issues. Management prescriptions will reflect multiple use resource principles.

F. The BLM will use current scientific information, research, new technologies, and the results of resource assessments, monitoring, and coordination to determine appropriate local and regional management strategies that will enhance or restore impaired ecosystems.

G. Revised RMP decisions will comply with all applicable laws, regulations, policy, and guidance.

4. Call for Coal Resource Information and Other Resource Information

Parties interested in coal leasing and development should provide coal resource data for their area(s) of interest. Identification of interests in future coal leasing, substantiated with adequate coal resource data, allows the BLM to address development potential during the RMP revision process and helps avoid unnecessary work, delays, or RMP amendments.

Proprietary data marked as confidential may be submitted in response to this call for coal resource information and other resource information. Please submit all proprietary information submissions to the Kemmerer Field Manager at the address listed above. The BLM will treat submissions marked as “Confidential” in accordance with the laws and regulations governing the confidentiality of such information.

In addition to coal resource data, the BLM seeks resource information and data for other public land values (e.g., air quality, archaeology, fire/fuels, fisheries, forestry, geologic hazards, lands and realty, oil and gas (including coalbed methane), paleontology, rangeland management, recreation, trona, water quality, and wildlife.

5. Public Participation

The BLM will announce public meetings and comment periods through one or more of the following: Local news media, newsletters, and the Kemmerer Field Office Web site, http://www.wy.blm.gov/kfo/info.htm, at least 15 days prior to the event. Meetings will tentatively be held in the fall of 2003 in Evanston, Green River, and Kemmerer, Wyoming. The minutes and list of attendees for each meeting will be available to the public and open for 30 days so that attendees may clarify the views they expressed. The BLM will also provide additional opportunities for public participation throughout the RMP revision process.

Dated: April 29, 2003.
Robert A. Bennett,
State Director.

[FR Doc. 03-15057 Filed 6-13-03; 8:45 am]

BILLING CODE 4310-22-P